DEPARTMENT OF DEFENSE

48 CFR Parts 215 and 253

[DFARS Case 2000-D026]

Defense Federal Acquisition Regulation Supplement; Cost or Pricing Data Threshold

AGENCY: Department of Defense (DoD).

ACTION: Final rule.

SUMMARY: DoD has issued a final rule amending the Defense Federal Acquisition Regulation Supplement (DFARS) to reflect the increase in the cost or pricing data threshold specified in the Federal Acquisition Regulation (FAR).

EFFECTIVE DATE: October 1, 2001.

FOR FURTHER INFORMATION CONTACT: Ms. Sandra Haberlin, Defense Acquisition Regulations Council, OUSD (AT&L) DP (DAR), IMD 3C132, 3062 Defense Pentagon, Washington, DC 20301-3062. Telephone (703) 602-0289; facsimile (703) 602-0350. Please cite DFARS Case 2000-D026.

SUPPLEMENTARY INFORMATION:

A. Background

FAR 15.403-4 specifies the dollar threshold at which contracting officers obtain cost or pricing data in negotiated acquisitions. On October 11, 2000 (65 FR 60553), this threshold was increased from $500,000 to $550,000.

This final rule amends DFARS 215.404 and 253.215-70 to remove references to the $500,000 threshold. Since 10 U.S.C. 2306a(a)(7) and 41 U.S.C. 254b(a)(7) require review of the cost or pricing data threshold every 5 years, this rule replaces the figure “$500,000” with the phrase “cost or pricing data threshold” to minimize the need for future DFARS changes.

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affected DFARS subparts in accordance with 5 U.S.C. 610. Such comments should cite DFARS Case 2000-D026.

C. Paperwork Reduction Act

The Paperwork Reduction Act does not apply because the rule does not impose any information collection requirements that require the approval of the Office of Management and Budget under 44 U.S.C. 3501, et seq.

List of Subjects in 48 CFR Parts 215 and 253

Government procurement.

Michele P. Peterson,
Executive Editor, Defense Acquisition Regulations Council.

Therefore, 48 CFR parts 215 and 253 are amended as follows:

1. The authority citation for 48 CFR parts 215 and 253 continues to read as follows:

PART 215—CONTRACTING BY NEGOTIATIONS

Authority: 41 U.S.C. 421 and 48 CFR Chapter 1.

2. Section 215.404-4 is amended by revising paragraph (c)(2)(C)(1)(i) to read as follows:

215.404-4 Profit.

* * * * *

(c) * * *

(2) * * *

(C) * * *

(1) * * *

(i) At or below the cost or pricing data threshold (see FAR 15.403-4(a)(1));

* * * * *

3. Section 215.404-76 is amended by revising paragraphs (a) and (c) to read as follows:

215.404-76 Reporting profit and fee statistics.

(a) Contracting officers in contracting offices that participate in the management information system for profit and fee statistics must send completed DD Forms 1547 on actions that exceed the cost or pricing data threshold, where the contracting officer used the weighted guidelines method, an alternate structured approach, or the modified weighted guidelines method, to their designated office within 30 days after contract award.

* * * * *

(c) When the contracting officer delegates negotiation of a contract action that exceeds the cost or pricing data threshold to another agency (e.g., to an ACO), that agency must ensure that a copy of the DD Form 1547 is provided to the delegating office for reporting purposes within 30 days after negotiation of the contract action.

* * * * *

PART 253—FORMS

4. Section 253.215-70 is amended by revising paragraph (b)(7) to read as follows:

253.215-70 DD Form 1547, Record of Weighted Guidelines Application.

* * * * *

(b) * * *

(7) For indefinite-delivery type contracts, prepare a consolidated DD Form 1547 for annual requirements expected to exceed the cost or pricing data threshold.

* * * * *

[FR Doc. 01-24385 Filed 9-28-01; 8:45 am]

BILLING CODE 5000-04-M